DEPARTMENT OF LABOR

Office of the Secretary

Submission for OMB Review: Comment Request

October 10, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on 202-693-4129 or E-Mail: King-Darrin@dol.gov.

Comments should be sent to Office of Information and Regulatory Affairs, Attn: OMB Desk Officer for ETA, Office of Management and Budget, Room 10235, Washington, DC 20503 (202-395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used:

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: Revision of a currently approved collection.

Title: Program Monitoring Report and Job Service Complaint Form.

OMB Number: 1205-0039.

Affected Public: State, Local, or Tribal Government.

Type of Response: Recordkeeping and reporting.

Frequency: On occasion and quarterly.

Requirement | Annual responses | Average response time (hours) | Annual burden hours
Complaint Log Maintenance:
Recordkeeping | 168 | 6.30 | 1.058
Processing ETA Form-8429 | 2,520 | 0.13 | 336
Outreach Log:
Recordkeeping | 150 | 26.00 | 3.900
Data Collection/Reporting ETA Form-5148 | 208 | 1.17 | 243
Total | 3,046 |  | 5,537

Total Annualized Capital/Startup Costs: $0.

Total Annual Costs (operating/maintaining systems or purchasing services): $2,982.

Description: The Job Service forms (ETA-8429 and ETA-5148) are necessary to ensure compliance with Federal Regulations at 20 CFR Parts 651, 653, and 658. The forms allow the U.S. Employment Service to track regulatory compliance of services provided to Migrant and Seasonal Farm Workers by State Employment Service Agencies.

Marlene J. Howze,
Acting Departmental Clearance Officer.

[FR Doc. 02-26837 Filed 10-21-02; 8:45 am]

BILLING CODE 4510-30-M